DEPARTMENT OF COMMERCE

National Oceanic and Atmospheric Administration

[RTID 0648-XD912]

Council Coordination Committee Meeting

AGENCY: National Marine Fisheries Service (NMFS), National Oceanic and Atmospheric Administration (NOAA), Commerce.

ACTION: Notice of public meeting.

SUMMARY: The Caribbean Fishery Management Council (CFMC) will host a meeting of the Council Coordination Committee (CCC) consisting of eight Regional Fishery Management Council (RFMC) chairs, vice chairs, and executive directors and its subcommittees from May 21 to May 23, 2024. The intent of this meeting is to discuss issues of relevance to the Councils and NMFS, including issues related to the implementation of the Magnuson-Stevens Fishery Conservation and Management Reauthorization Act (MSA), other topics of concern to the RFMC, and decisions and follow-up activities.

DATES: The meeting will be held from Tuesday, May 21, 2024 to Thursday, May 23, 2024. Registration for the meeting will be from 9 a.m. to 5 p.m., AST on Monday, May 20, 2024. The meeting will begin at 9 a.m. AST on Tuesday, May 21, 2024, and recess at 5 p.m. or when business is complete. There will be a closed session on May 22, 2024, from 8 a.m. to 8:30 a.m., AST. The meeting will reconvene at 9 a.m. AST, and recess at 5 p.m. or when business is complete. The meeting will reconvene on the final day at 9 a.m. AST on Thursday, May 23, 2024, and adjourn by 12 p.m., AST or when business is complete.

ADDRESSES:

Meeting address: The meeting will take place at the Caribe Hilton Hotel, 1 San Geronimo Street San Juan, Puerto Rico 00901; telephone: (787) 721-0303.

You may join the meeting via Zoom, from a computer, tablet or smartphone by entering the following address:

Topic: CCC May 21-23, 2024

Time: This is a recurring meeting Meet anytime

Join Zoom Meeting:

https://us02web.zoom.us/j/83478008823?pwd=ajRsd0NPNHMzQi9BTlh4Mzd5M29rUT09

Meeting ID: 834 7800 8823

Passcode: 942580

One tap mobile:

+17879451488,,83478008823#,,,,*942580# Puerto Rico

+17879667727,,83478008823#,,,,*942580# Puerto Rico

Dial by your location:

• +1 787 945 1488 Puerto Rico

• +1 787 966 7727 Puerto Rico

• +1 939 945 0244 Puerto Rico

• +1 669 900 6833 US (San Jose)

• +1 689 278 1000 US

• +1 719 359 4580 US

• +1 929 205 6099 US (New York)

• +1 253 205 0468 US

• +1 253 215 8782 US (Tacoma)

• +1 301 715 8592 US (Washington DC)

• +1 305 224 1968 US

• +1 309 205 3325 US

• +1 312 626 6799 US (Chicago)

• +1 346 248 7799 US (Houston)

• +1 360 209 5623 US

• +1 386 347 5053 US

• +1 507 473 4847 US

• +1 564 217 2000 US

• +1 646 931 3860 US

• +1 669 444 9171 US

Meeting ID: 834 7800 8823

Passcode: 942580

Find your local number: https://us02web.zoom.us/u/kcXP2b3XGB

FOR FURTHER INFORMATION CONTACT: Miguel Rolón, Executive Director, Caribbean Fishery Management Council, 270 Muñoz Rivera Avenue, Suite 401, San Juan, Puerto Rico 00918-1903, telephone: (787) 398-3717.

SUPPLEMENTARY INFORMATION: The Magnuson-Stephens Fishery Conservation and Management Act (MSA) and 2007 Reauthorization Act (MSRA) established the CCC by amending section 302 (16 U.S.C. 1852) of the MSA. The Committee consists of the chairs, vice-chairs, and executive directors of each of the eight Regional Fishery Management Councils authorized by the MSA, or their proxies, other Council members or staff. All sessions are open to the public and time will be set aside for public comments at the end of each day and after specific sessions at the discretion of the meeting Chair. The meeting Chair will announce public comment times and instructions to provide comment at the start of each meeting day. There will be opportunities for public comments to be provided in-person and remotely via webinar. Updates to this meeting, briefing materials, public comment instructions and additional information will be posted when available at http://www.fisherycouncils.org/ccc-meetings/may-2024.

Proposed Agenda

Monday, May 20, 2024

9 a.m.-5 p.m.: Meeting Registration—Gran Salón Los Rosales

Tuesday, May 21, 2024

9 a.m.: CCC Convenes

I. 9 a.m.-9:10 a.m.: Welcome and Introductions—Mr. Carlos F. Farchette

• Adoption of Agenda

II. 9:10 a.m.-9:30 a.m.: Opening Remarks and FY24/25 Priorities—Ms. Janet Coit

III. 9:30 a.m.-10:45 a.m.: NOAA Fisheries Update and FY 24/25 Priorities—Mr. Sam Rauch/Ms. Emily Menashes

• Confidentiality Rule Update

• CEQ NEPA Regulations

• National Seafood Strategy

• America the Beautiful/30x30 & Marine and Coastal Area-Based Management Federal Advisory Committee (FAC) Update

• Sanctuary Regulations and Guidance

—— Break 10:45 a.m.-11 a.m. ——

IV. 11 a.m.-12:15 p.m.: NOAA Fisheries Science Updates

• CEFI Regional Implementation: Results From the 1st Summit—Dr. Cisco Werner

• Marine Recreational Information Program (MRIP) & Fishing Effort Survey (FES)—Dr. Evan Howell

—— Lunch 12:15 p.m.-1:45 p.m. ——

V. 1:45 p.m.-2:45 p.m.: ESA/MSA Integration Policy Draft

• ESA/MSA Integration Policy Draft—Mr. Sam Rauch

VI. 2:45 p.m.-3:15 p.m.: MSA 304(f) Policy—Ms. Kelly Denit

—— Break 3:15 p.m.-3:30 p.m. ——

VII. 3:30 p.m.-4:15 p.m.: National Standards 4, 8, and 9—Ms. Kelly Denit

VIII. 4:15 p.m.-4:45 p.m.: Public Comments—Mr. Carlos F. Farchette

—— Recess ——

Wednesday, May 22, 2024

8 a.m.-8:30 a.m. CLOSED SESSION

IX. 9 a.m.-10 a.m.: Budget

• 2024 Outlook, Including 5-year Administrative Awards—Ms. Emily Menashes

• Long Term Funding for Council Operation

X. 10 a.m.-10:30 a.m.: Anti-Harassment Policies and Addressing Unprofessional Behavior—Mr. Merrick J. Burden

—— Break 10:30 a.m.-10:45 a.m. ——

XI. 10:45 a.m.-11 a.m.: Caribbean Fishery Management Highlights—Mr. Carlos F. Farchette

XII. 11 a.m.-11:15 a.m.: 8th Scientific Coordination Subcommittee (SCS) 2024, Planning Report—Dr. Lisa Kerr

XIII. 11:15 a.m.-11:30 a.m.: CMOD Planning Update—Ms. Diana Evans

XIV. 11:30 a.m.-12 p.m.: International Fisheries Issues—Mr. Carlos F. Farchette

—— Lunch 12 p.m.-1:30 p.m. ——

XV. 1:30 p.m.-2:45 p.m.: Inflation Reduction Act (IRA) Climate-Ready Fishery Funding

• Update on IRA Funding Overall—Dr. Evan Howell

• Council-specific Funding Update—Ms. Kelly Denit

XVI. 2:45 p.m.-3:45 p.m.: National Academies of Sciences (NAS) Equity Report and Equity and Environmental Justice (EEJ) Regional Strategic Plans—Mr. Sam Rauch

—— Break 3:45 p.m.-4 p.m. ——

XVII. 4 p.m.-4:30 p.m.: Legislative Outlook—Mr. Dave Whaley

XVIII. 4:30 p.m.-5 p.m.: Public Comments—Mr. Carlos F. Farchette

—— Recess ——

Thursday, May 23, 2024

XIX. 9 a.m.-10 a.m.: CCC Workgroups/Subcommittees

9 a.m.-9:15 a.m.

• Communications Committee Councils MSA 50-year Anniversary Update

9:15 a.m.-9:30 a.m.

• Habitat Working Group—Dr. Lisa Hollensead/Dr. Graciela García-Moliner

9:30 a.m.-9:45 a.m.

• NEPA Working Group Report—Dr. Graciela García-Moliner

9:45 a.m.-10:15 a.m.

• EEJ Working Group Report—Mr. Zach Yamada/Dr. Graciela García-Moliner

—— Break 10:15 a.m.-10:30 a.m. ——

XX. 10:30 a.m.-11 a.m.: Public Comments—Mr. Carlos F. Farchette

XXI. 11 a.m.-11:15 a.m.: 2025 CCC Meetings—Dr. Cate O'keefe

XXII. 11:15 a.m.-12 p.m.: Other Business and Wrap-Up—Mr. Carlos F. Farchette

• CCC Outcomes and Action Items

—— ADJOURN ——

The timing and order in which agenda items are addressed may change as required to effectively address the issues. The CCC will meet as late as necessary to complete scheduled business.

Although non-emergency issues not contained in the meeting agenda may be discussed, those issues may not be the subject of formal action during these meetings. Action will be restricted to those issues specifically listed in this document and any issues arising after publication of this document that require emergency action under section 305 (c) of the Magnuson-Stephens Fishery Conservation and Management Act, provided the public has been notified of the intent to take final action to address the emergency.

Special Accommodations

These meetings are physically accessible to people with disabilities. Requests for sign language interpretation or other auxiliary aids should be directed to Diana Martino, Caribbean Fishery Management Council, 270 Muñoz Rivera Avenue, Suite 401, San Juan, Puerto Rico, 00918-1903, telephone: (787) 226-8849, at least 5 working days prior to the meeting.

Authority: 16 U.S.C. 1801 et seq.

Dated: April 24, 2024.
Rey Israel Marquez,
Acting Deputy Director, Office of Sustainable Fisheries, National Marine Fisheries Service.

[FR Doc. 2024-09213 Filed 4-29-24; 8:45 am]

BILLING CODE 3510-22-P